DEPARTMENT OF TRANSPORTATION

Federal Highway Administration

Environmental Impact Statement: Grant, Hardy, Hampshire, and Mineral Counties in WV; and, Allegany County, MD

AGENCY: Federal Highway Administration (FHWA), DOT.

ACTION: Notice of Intent.

SUMMARY: The FHWA is issuing this notice to advise the public that a Tier I Environmental Impact Statement (EIS) will be prepared to review improvements in the existing transportation system between Interstate 68 in Western Maryland and Appalachian Corridor H in the West Virginia Potomac Highlands. The study area generally parallels the existing U.S. 220 highway corridor.

FOR FURTHER INFORMATION CONTACT: Henry E. Compton, Division Environmental Coordinator, Federal Highway Administration, West Virginia Division, Geary Plaza, Suite 200, 700 Washington Street East, Charleston, West Virginia 25301, Telephone: (304) 347-5268.

SUPPLEMENTARY INFORMATION: In July 2001, the North South Appalachia Corridor Study was completed by the states of Maryland, Pennsylvania, and West Virginia. The study concluded that the U.S. Route 220 corridor south from Interstate 68 connecting to Appalachian Corridor H in eastern West Virginia provided great potential for benefiting Appalachian economic development. The purpose of this EIS is to review options for a new or improved highway between these termini as part of the National Highway System. The proposed corridor improvements will serve to improve the existing transportation system by providing an upgraded north-south road in order to resolve existing transportation deficiencies and to enhance regional commerce for areas residents, businesses, and visitors. It will also service interstate north-south travel movements and support other economic development efforts throughout the Appalachian regions of Maryland, West Virginia, Pennsylvania, and Virginia. The EIS will be prepared by the West Virginia Department of Transportation, Division of Highways in cooperation with the Maryland State Highway Administration for the Federal Highway Administration (FHWA) to fulfill the requirements established in the National Environmental Policy Act in conformance with current FHWA regulations and guidance materials. The EIS will be prepared as a Tiered document. The tiered process will provide a systematic approach for advancing the best transportation improvements in the most cost-effective manner. The analyses undertaken during Tier I will lead to the identification of the most practical corridor for carrying out transportation improvements. A Record of Decision will be prepared at the conclusion of the Tier I EIS process to identify the option that best meets the identified transportation need. Subsequently, if more detailed study of a particular option or corridor is required, further environmental analyses will be undertaken. The scope of future environmental studies will be commensurate with the proposed action and potential environmental consequences.

Alternates under consideration in the EIS will be: (1) The no action alternative, (2) build corridors identified in the North South Appalachia Corridor Study, and (3) alternatives identified based on discussions with the resource agencies and the public during the environmental scoping process.

Letters describing the proposed action and soliciting comments will be sent to appropriate federal, state, and local agencies, and to private organizations and citizens who have expressed or are known to have an interest in this proposal. Public and resource agency meetings are currently being scheduled for the spring of 2006. Meeting notifications will be made to the public, resource agencies and the public in accordance with the approved public involvement procedures for each state. At this time, it is anticipated meetings will be held in Cumberland, Maryland and Keyser and Moorefield, West Virginia.

To ensure the full range of issues related to this proposed action are addressed and all significant issues identified, comments and suggestions are invited from all interested parties. Comments or questions concerning this proposed action should be directed to the FHWA at the address provided above.

(Catalog of Federal Domestic Assistance Program Number 20.205, Highway Research Planning and Construction. The regulations implementing Executive Order 12372 regarding intergovernmental consultation on Federal programs and activities apply to this program)

Issued on: March 31, 2006.
Henry E. Compton,
Environmental Coordinator, Charleston, West Virginia.

[FR Doc. 06-3576 Filed 4-13-06; 8:45 am]

BILLING CODE 4910-22-M